COUNCIL ON ENVIRONMENTAL QUALITY

National Environmental Policy Act Task Force

AGENCY: Council on Environmental Quality.

ACTION: Notice extending comment period.

SUMMARY: By Federal Register notice of July 9, 2002 (67 FR 45510-45512), the Council on Environmental Quality (CEQ) notified interested parties it had formed a National Environmental Policy Act (NEPA) task force (Task Force) and invited comment on the proposed nature and scope of NEPA Task Force activities. The Task Force seeks ways to improve and modernize NEPA analyses and documentation and foster improved coordination among all levels of government and the public, and solicits examples of effected NEPA implementation practices to develop a publication of case studies including examples of best practices.

Interested parties have requested that CEQ extend the public comment. The deadline for comments was August 23, 2002. By this notice, CEQ is extending the public comment period to September 23, 2002. Although the time for comments has been extended, CEQ requests that interested parties provide information about examples of effective NEPA implementation practices and examples of best practices as soon as possible.

DATES: Written comments should be submitted on or before September 23, 2002.

ADDRESSES: Electronic or facsimile comments are preferred because federal offices experience intermittent mail delays from security screening. Electronic written comments can be sent to the NEPA Task Force through the Web site at http://ceq.eh.doe.gov/ntf/ which provides a form for responding to questions posed in the July 9, 2002, notice as well as a direct electronic mail link to ceq_nepa@fs.fed.us. Written comments may be faxed to the NEPA Task Force at (801) 517-1021. Written comments may also be submitted to the NEPA Task Force, P.O. Box 221150, Salt Lake City, UT 84122.

FOR FURTHER INFORMATION CONTACT: Rhey Solomon by phone at (202) 456-5432.

SUPPLEMENTARY INFORMATION: On July 9, 2002, CEQ published notice in the Federal Register requesting public comment on current NEPA implementing practices and procedures in the following areas: technology, information management, and information security; federal and intergovernmental collaboration; programmatic and tiered analyses; and adaptive management and monitoring and evaluation plans. In addition, it was announced that the NEPA Task Force would look at other NEPA implementation issues such as the level of detail included in agencies' procedures and documentation for promulgating categorical exclusions, the utility and structure of format for environmental assessment documents, and implementation practices that would benefit other agencies.

A number of interest groups and individuals have requested that CEQ extend the public comment period. The Council believes that by extending the comment period a better collection of best practices can be assembled and greater in-depth responses will result to the questions posed in the Federal Register notice of July 9, 2002 (67 FR 45510-45512). Therefore, the comment period is being extended by 30 days.

Public comments are requested by September 23, 2002.

Dated: August 14, 2002.
James L. Connaughton,
Chairman, Council on Environmental Quality.

[FR Doc. 02-21038 Filed 8-19-02; 8:45 am]

BILLING CODE 3125-01-M